DEPARTMENT OF TRANSPORTATION

Transportation Security Administration

[Docket No. TSA-2002-11604]

Security Programs For Aircraft 12,500 Pounds Or More

AGENCY: Transportation Security Administration (TSA), DOT.

ACTION: Notice.

SUMMARY: This notice announces an extension of time for compliance with the final security program for operators of aircraft with a maximum certificated takeoff weight of 12,500 or more pounds. TSA is extending the time from February 1 to April 1, 2003.

DATES: Security program compliance date: April 1, 2003.

FOR FURTHER INFORMATION CONTACT: Lon Siro or Gail Richards by telephone: (571) 227-2217 or (571) 271-2216 respectively; or by e-mail lon.siro@tsa.dot.gov or gail.richards@tsa.dot.gov. You may also mail any comments or questions concerning this action to Lon Siro or Gail Richards, Aviation Operations, Room 11080S, East Tower, Transportation Security Administration, 400 Seventh Street, SW., Washington, DC 20591.

SUPPLEMENTARY INFORMATION: On February 22, 2002, TSA published a final rule in the Federal Register (67 FR 8205), known as the “Twelve-Five Rule,” that, in part, required new security measures for operators of aircraft with a maximum certificated takeoff weight of 12,500 pounds or more. Under the rule, these operators must adopt and carry out certain security measures approved by TSA, generally known as the “Twelve-Five Security Program.”

As published, the effective date of the Twelve-Five Rule was June 24, 2002. This document does not alter that date. On August 28, 2002 (67 FR 55308), TSA issued a notice that established a schedule for comments on the proposed security program and a date for compliance with the final security program. Security programs constitute sensitive security information (SSI), which are disclosed only to persons with a need to know, in accordance with 49 CFR part 1520. Therefore, the Twelve-Five Security Program may be distributed only to affected operators. In that notice, TSA required all affected aircraft operators to be in compliance with the final security program by February 1, 2003.

TSA provided the proposed Twelve-Five Security Program to affected operators and analyzed all comments received concerning the program. TSA prepared a final security program and has forwarded it to all twelve-five operators. TSA has prepared a training program to ensure that all operators receive the training required by the final security program. In addition, TSA has developed a fingerprint collection process that will enable all affected operators to complete the fingerprint-based criminal history records checks of their flightcrew members, as required by the Twelve-Five Rule.

However, TSA must provide the industry with sufficient time to train employees and fingerprint crew members, and completion of these tasks is not possible by February 1, 2003. Therefore, TSA is extending the security program compliance date to April 1, 2003.

Issued in Washington, DC, on January 30, 2003.
Stephen J. McHale,
Deputy Administrator.

[FR Doc. 03-2800 Filed 1-31-03; 3:51 pm]

BILLING CODE 4910-62-P